DEPARTMENT OF AGRICULTURE

Forest Service

White Pine-Nye Resource Advisory Committee

AGENCY: Forest Service, USDA.

ACTION: Notice of meeting cancellation.

SUMMARY: The White Pine-Nye Resource Advisory Committee meeting scheduled in Eureka, Nevada has been cancelled. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act.

DATES: The cancelled meeting was scheduled to be held August 8, 2011, 9 a.m.

FOR FURTHER INFORMATION CONTACT: Steven Williams, RAC Designated Federal Official, Austin Ranger District, 100 Midas Canyon Road, P.O. Box 130, Austin, Nevada 89310, 775-964-2671, e-mail swilliams01@fs.fed.us.

Dated: August 2, 2011.
JoEllen J. Keil,
Acting Forest Supervisor.

[FR Doc. 2011-20087 Filed 8-8-11; 8:45 am]

BILLING CODE 3410-11-P